DEPARTMENT OF HEALTH AND HUMAN SERVICES

Administration for Children and Families

Submission for Office of Management and Budget Review; Family Violence Prevention and Services Grants to States; Native American Tribes and Alaskan Native Villages; and State Domestic Violence Coalitions (Office of Management and Budget #0970-0280)

AGENCY: Office of Family Violence Prevention and Services; Administration for Children and Families; Department of Health and Human Services.

ACTION: Request for public comments.

SUMMARY: The Family Violence Prevention and Services Act (FVPSA) program within the Office of Family Violence Prevention and Services (OFVPS) plans revised program announcements and minor changes to the previously approved Performance Progress Report for States and Tribes (Office of Management and Budget (OMB) #0970-0280; Expiration Date: May 31, 2024). Minor changes are proposed to the existing information collection.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Under the FVPSA, OFVPS has a legislative requirement for grantees to report on activities carried out throughout their grant period and provide an evaluation on the effectiveness of the activities in achieving the purposes of the grant. Grantees must collect unduplicated data and only share non-personally identifying information, in the aggregate, regarding services to their clients in order to comply with federal, state, or tribal reporting, evaluation, or data collection requirements, (42 U.S.C. 10406(c)(5)(D)). Client-level data shall not be shared with a third party, regardless of encryption, hashing, or other data security measures, without a written, time-limited release as described in 42 U.S.C. 10406(c)(5).

Respondents: FVPSA-funded grantees.

Annual Burden Estimates
Instrument | Number of respondents | Total number of responses per respondent | Average burden hours per response | Total burden hours | Annual burden hours
FVPSA State Grants Notice of Funding Opportunity | 52 | 1 | 10 | 520 | 173
FVPSA Tribes/Tribal Organizations Grants Notice of Funding Opportunity | 143 | 1 | 10 | 1,430 | 477
FVPSA State Domestic Violence Coalitions Grants Notice of Funding Opportunity | 56 | 1 | 10 | 560 | 187
State FVPSA Grant Performance Progress Report | 52 | 3 | 10 | 1,560 | 520
Tribal FVPSA Grant Performance Progress Report | 143 | 3 | 10 | 4,290 | 1,430
State Domestic Violence Coalition Performance Progress Report | 56 | 3 | 10 | 1,680 | 560
Estimated Total Annual Burden Hours: |  |  |  |  | 3,347

Authority: The Family Violence Prevention and Services Act, 42 U.S.C. 10401.

Mary C. Jones,
ACF/OPRE Certifying Officer.

[FR Doc. 2024-11830 Filed 5-29-24; 8:45 am]

BILLING CODE 4184-32-P